DEPARTMENT OF THE INTERIOR

Fish and Wildlife Service

Notice of Receipt of Applications for Permit

The following applicants have applied for a permit to conduct certain activities with endangered species. This notice is provided pursuant to Section 10(c) of the Endangered Species Act of 1973, as amended (16 U.S.C. 1531, et seq.):

PRT-023232

Applicant: AZA Rhinoceros Taxon Advisory Group, c/o Buffalo Zoo, Buffalo, NY.

The applicant requests a permit to export blood samples from Indian Rhino (Rhinoceros unicornis) taken from captive held and captive born species being held in captivity in Canada and the United States. Samples are to be exported to University of Basel, Basel, Switzerland for scientific research purposes.

PRT-026630

Applicant: Duke University, Durham, NC.

The applicant requests a permit to import blood and tissue samples from Brown hyaena (Hyaena brunnea) taken from wild animals in Diamond Coast, Namibia. Samples are to be imported from Ministry of Environment & Tourism, Windhoek, Namibia for scientific research purposes.

PRT-027208

Applicant: Donald S. Usak, Roanoke, VA.

The applicant requests a permit to import the sport-hunted trophy of one male bontebok (Damaliscus pygargus dorcas) culled from a captive herd maintained under the management program of the Republic of South Africa, for the purpose of enhancement of the survival of the species.

PRT-027256

Applicant: Baltimore Zoo, Baltimore, MD.

The applicant requests a permit to import 140 live Panamanian golden frogs (Atelopus zeteki) taken from the wild in Panama. The 140 is to consist of 20 pairs of adult specimens and 100 end-stage tadpoles. The import is for the purpose of enhancement of the propagation of the species.

PRT-025357

Applicant: Toledo Zoological Gardens, Toledo, OH.

The applicant requests a permit to import one captive-born male and one captive-born female African wild dog (Lycaon pictus) from the Hoedspruit Research and Breeding Centre, South Africa, for the purpose of enhancement of the survival of the species through propagation.

PRT-020925

Applicant: Susanne Shultz, State University of New York Stony Brook, NY.

The applicant requests a permit to import the prey remains of Diana monkey (Cercopithecus diana) and Jentink's duiker (Cephalophus jentinki) collected in the wild in Cote d'Ivoire (Ivory Coast), for scientific research.

PRT-026842

Applicant: Chicago Zoological Park, Brookfield, IL.

The applicant requests a permit to export hair, blood, and tissue samples from one male captive born Goeldi's monkey (Callimico goeldii) to the Anthropologisches Institut der Universitact Zuerich, Zuerich, Switzerland, for scientific research.

PRT-017383

Applicant: Elizabeth N. Knowles, Jacksboro, TX.

The applicant requests a permit to import the sport-hunted trophy of one male bontebok (Damaliscus pygargus dorcas) culled from a captive herd maintained under the management program of the Republic of South Africa, for the purpose of enhancement of the survival of the species.

Marine Mammal

The public is invited to comment on the following application for a permit to conduct certain activities with marine mammals. The application was submitted to satisfy requirements of the Marine Mammal Protection Act of 1972, as amended (16 U.S.C. 1361 et seq.) and the regulations governing marine mammals (50 CFR 18).

PRT-027073

Applicant: John R. Kauffman, Pennsburg, PA

The applicant requests a permit to import a polar bear (Ursus maritimus) sport-hunted from the Lancaster Sound polar bear population, Northwest Territories Canada for personal use.

PRT-027126

Applicant: Stephen C. Delano, Cold Spring, MN

The applicant requests a permit to import a polar bear (Ursus maritimus) sport-hunted from the Lancaster Sound polar bear population, Northwest Territories Canada for personal use.

PRT-027135

Applicant: Donald R. Card, Grand Ledge, MI

The applicant requests a permit to import a polar bear (Ursus maritimus) sport-hunted from the Lancaster Sound polar bear population, Northwest Territories, Canada for personal use.

PRT—027207

Applicant: Peter M. Shaw, Foristell, MO

The applicant requests a permit to import a polar bear (Ursus maritimus) sport-hunted from the Northern Beaufort Sea polar bear population, Northwest Territories, Canada for personal use.

PRT—027206

Applicant: Greg Wilkie, Lenoir, NC

The applicant requests a permit to import a polar bear (Ursus maritimus) sport-hunted from the Lancaster Sound polar bear population, Northwest Territories, Canada for personal use.

PRT—027205

Applicant: Edward D. Yates, Wrightsville, PA

The applicant requests a permit to import a polar bear (Ursus maritimus) sport-hunted from the Lancaster Sound polar bear population, Northwest Territories, Canada for personal use.

PRT—027204

Applicant: Darrell W. Hindman, St. Louis, MO

The applicant requests a permit to import a polar bear (Ursus maritimus) sport-hunted from the Northern Beaufort Sea polar bear population, Northwest Territories, Canada for personal use.

PRT-027386

Applicant: Samuel A. Francis, Goshen, KY

The applicant requests a permit to import a polar bear (Ursus maritimus) sport-hunted from the McClintock Channel polar bear population, Northwest Territories, Canada for personal use.

PRT-027384

Applicant: Dyrk T. Eddie, Kalispell, MT

The applicant requests a permit to import a polar bear (Ursus maritimus) sport-hunted from the Lancaster Sound polar bear population, Northwest Territories, Canada for personal use.

Written data or comments should be submitted to the Director, U.S. Fish and Wildlife Service, Office of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice: U.S. Fish and Wildlife Service, Office of Management Authority, 4401 North Fairfax Drive, Room 700, Arlington, Virginia 22203. Phone: (703/358-2104); FAX: (703/358-2281).

Dated: May 16, 2000.
Kristen Nelson,
Chief, Branch of Permits, Office of Management Authority.

[FR Doc. 00-12710 Filed 5-19-00; 8:45 am]

BILLING CODE 4310-55-P